DEPARTMENT OF TRANSPORTATION

Pipeline and Hazardous Materials Safety Administration

[Docket No. PHMSA-2012-0112]

Pipeline Safety: Requests for Special Permit

AGENCY: Pipeline and Hazardous Materials Safety Administration (PHMSA); DOT.

ACTION: Notice.

SUMMARY: Pursuant to the Federal pipeline safety laws, PHMSA is publishing this notice of special permit requests we have received from Norgasco, Inc., and BreitBurn Energy Company LP, two natural gas pipeline operators, seeking relief from compliance with certain requirements in the Federal pipeline safety regulations. This notice seeks public comments on the requests, including comments on any safety or environmental impacts. At the conclusion of the 30-day comment period, PHMSA will evaluate the requests and determine whether to grant or deny a special permit.

DATES: Submit any comments regarding these special permit requests by July 11, 2012.

ADDRESSES: Comments should reference the docket numbers for the specific special permit request and may be submitted in the following ways:

• E-Gov Web Site: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue SE., Washington, DC 20590.

• Hand Delivery: DOT Docket Management System: U.S. Department of Transportation, Docket Operations, M-30, West Building Ground Floor, Room W12-140, 1200 New Jersey Avenue SE., Washington, DC 20590, between 9:00 a.m. and 5:00 p.m., Monday through Friday, except Federal holidays.

Instructions: You should identify the docket number for the special permit request you are commenting on at the beginning of your comments. If you submit your comments by mail, please submit two copies. To receive confirmation that PHMSA has received your comments, please include a self-addressed stamped postcard. Internet users may submit comments at http://www.Regulations.gov.

Note: Comments are posted without changes or edits to http://www.Regulations.gov, including any personal information provided. There is a privacy statement published on http://www.Regulations.gov.

FOR FURTHER INFORMATION CONTACT: General: Kay McIver by telephone at (202) 366-0113; or, email at kay.mciver@dot.gov.

Technical: Jeffery Gilliam by telephone at (202) 366-0568; or, email at Jeffery.Gilliam@dot.gov.

SUPPLEMENTARY INFORMATION: PHMSA has received requests for special permits from two natural gas pipeline operators, Norgasco, Inc., (“NI”), and BreitBurn Energy Company LP (“BreitBurn”) seeking relief from compliance with certain pipeline safety regulations.¹ The requests include a technical analysis provided by the operators. The requests are filed in the Federal Docket Management System (FDMS) and have been assigned docket numbers, (Norgasco—PHMSA-2011-0344 and BreitBurn—PHMSA-2011-0343) in the FDMS. We invite interested persons to participate by reviewing these special permit requests at http://www.Regulations.gov, and by submitting written comments, data or other views. Please include any comments on potential environmental impacts that may result if these special permits are granted.

¹ Effective December 31, 2011, BreitBurn Energy Company LP, changed its name to Pacific Coast Energy Company, LP.

Before acting on these special permit requests, PHMSA will evaluate all comments received on or before the closing date. Comments will be evaluated after this date if it is possible to do so without incurring additional expense or delay. PHMSA will consider each relevant comment we receive in making our decision to grant or deny the requests.

PHMSA has received the following special permit requests:

Docket No. | Requester | Regulation(s) affected | Nature of special permit
PHMSA-2011-0344 | Norgasco, Inc | 49 CFR 192.121 | The special permit request from Norgasco, Inc. (“NI”) seeks permission to use Fiberspar pipe up to the hydrostatic design basis as listed by ASTM D 2517, to construct and operate a three mile long natural gas pipeline located in the Deadhorse area of Prudhoe Bay, Alaska. The pipeline is intended to transport natural gas from the oil and gas producers on the Alaskan North Slope to the existing Deadhorse natural gas distribution utility, Norgasco, Inc. The main portion is 2.76 miles long. All portions of the pipeline are located within the Alaskan North Slope Prudhoe Bay area. The entire pipeline is in a largely unpopulated area (Class 1) area. The pipeline will be constructed of a thermoset composite pipe that is manufactured by Fiberspar LinePipe, LLC. The pipeline is expected to be constructed during the 2012/2013 Winter construction season.
PHMSA-2011-0343 | BreitBurn Energy Company LP | 49 CFR 192.53(c), 192.121, 192.123, 192.619(a) | The special permit request from BreitBurn Energy Company LP (“BreitBurn”), seeks permission to use composite, reinforced thermoplastic (“RTP”) for the replacement of a segment of steel pipeline located in the city of Los Angeles, California. BreitBurn plans to insert a 6-inch OD Smart Pipe system into the current 12-inch OD segment of the existing steel gas gathering line. The line is in need of replacement due to the age of the pipeline and the recently discovered presence of internal corrosion. In August 2011, a leak developed from a threaded connection of pipe. On further examination of a cut out section, internal corrosion was found. The normal operating pressure for this line is 220 psig and the MAOP is 245 psig. This line is a Type B line as specified in 49 CFR § 192.8. The entire area through which this pipeline travels, and indeed the general area of the City of Los Angeles, is a densely populated and utilized, Class 4 location as defined in 49 CFR § 192.5.

Authority: 49 U.S.C. 60118 (c)(1) and 49 CFR 1.53.

Issued in Washington, DC on June 7, 2012.
Jeffrey D. Wiese,
Associate Administrator for Pipeline Safety.

[FR Doc. 2012-14088 Filed 6-8-12; 8:45 am]

BILLING CODE 4910-60-P